DEPARTMENT OF HEALTH AND HUMAN SERVICES

Administration for Children and Families

Submission for OMB Review; Comment Request

Title: Title V Section 510 Abstinence Education Grant Program—Annual Program Application.

OMB No.: 0970-0271.

Description: The Title V Section 510 Abstinence Education Grant Program (Section 510 program) is a formula block grant program, authorized through June 30, 2008, under Public Law 110-173—The Medicare, Medicaid, and SCHIP Extension Act of 2007.

The Section 510 Annual Program Application requires basic application information that will be used by the Administration for Children and Families (ACF) to establish applicant eligibility, determine each applicant's compliance with Federal law, review and evaluate each applicant's proposed plans, and to develop any conditions to be placed on grant awards. Projects must meet the legislative priorities as described in Section 510 of Title V of the Social Security Act.

Respondents: The 50 States, the District of Columbia, and the following 8 Territories: American Samoa, Guam, Republic of the Marshall Islands, Federated States of Micronesia, Commonwealth of the Northern Mariana Islands, Republic of Palau, Commonwealth of Puerto Rico, and the U.S. Virgin Islands.

Annual Burden Estimates
Instrument | Number of respondents | Response per respondent | Average burden hours per response | Total burden hours
Annual Program Application | 59 | 1 | 36 | 2,124

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: March 6, 2008.
Robert Sargis,
Reports Clearance Officer.

[FR Doc. E8-5063 Filed 3-14-08; 8:45 am]

BILLING CODE 4184-01-M